DEPARTMENT OF HOMELAND SECURITY

Federal Emergency Management Agency

44 CFR Part 65

Changes in Flood Elevation Determinations

AGENCY: Federal Emergency Management Agency (FEMA), Emergency Preparedness and Response Directorate, Department of Homeland Security.

ACTION: Final rule.

SUMMARY: Modified base (1% annual chance) flood elevations are finalized for the communities listed below. These modified elevations will be used to calculate flood insurance premium rates for new buildings and their contents.

EFFECTIVE DATES: The effective dates for these modified base flood elevations are indicated on the following table and revise the Flood Insurance Rate Map(s) (FIRMs) in effect for each listed community prior to this date.

ADDRESSES: The modified base flood elevations for each community are available for inspection at the office of the Chief Executive Officer of each community. The respective addresses are listed in the following table.

FOR FURTHER INFORMATION CONTACT: Mary Jean Pajak, P.E., FEMA, 500 C Street SW., Washington, DC 20472, (202) 646-2831.

SUPPLEMENTARY INFORMATION: The Federal Emergency Management Agency makes the final determinations listed below of modified base flood elevations for each community listed. These modified elevations have been published in newspapers of local circulation and ninety (90) days have elapsed since that publication. The Mitigation Division Director of the Emergency Preparedness and Response Directorate has resolved any appeals resulting from this notification.

The modified base flood elevations are not listed for each community in this notice. However, this rule includes the address of the Chief Executive Officer of the community where the modified base flood elevation determinations are available for inspection.

The modifications are made pursuant to Section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

These modified elevations are used to meet the floodplain management requirements of the NFIP and are also used to calculate the appropriate flood insurance premium rates for new buildings built after these elevations are made final, and for the contents in these buildings.

The changes in base flood elevations are in accordance with 44 CFR 65.4. National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Accordingly, 44 CFR Part 65 is amended as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and County | Location | Dates and name of newspaper where notice was published | Chief executive officer of community | Effective date of modification | Community number
Florida: Orange (FEMA Docket No. D-7535) | City of Ocoee | December 4, 2002; December 11, 2002; The Orlando Sentinel | The Honorable S. Scott Vandergift, Mayor of the City of Ocoee, City Hall, 150 North Lakeshore Drive, Ocoee, Florida 34761 | March 12, 2003 | 120185 E
Florida: Leon (FEMA Docket No. D-7535) | City of Tallahassee | December 17, 2002; December 24, 2002; Tallahassee Democrat | The Honorable Scott Maddox, Mayor of the City of Tallahassee, City Hall, 300 Adams Street, Tallahassee, Florida 32301-1731 | March 25, 2003 | 120144 D
Georgia: Cobb (FEMA Docket No. D-7535) | City of Marietta | December 27, 2002; January 3, 2003; Marietta Daily Journal | The Honorable Bill Dunaway, Mayor of the City of Marietta, 205 Lawrence Street, P.O. Box 3536, Marietta, Georgia 30061 | April 4, 2003 | 130226 D
Indiana: Allen (FEMA Docket No. D-7535) | City of Fort Wayne | November 27, 2002; December 4, 2002; The Journal Gazette | The Honorable Graham Richard, Mayor of the City of Fort Wayne, City-County Building, 1 Main Street, 9th floor, Fort Wayne, Indiana 46802-1804 | March 5, 2003 | 180003 E
Mississippi: Madison (FEMA Docket No. D-7535) | City of Ridgeland | January 2, 2003; January 9, 2003; The Clarion-Ledger | The Honorable Gene F. McGee, Mayor of the City of Ridgeland, P.O. Box 217, Ridgeland, Mississippi 39158 | April 10, 2003 | 280110 D
New Hampshire: Grafton (FEMA Docket No. D-7535) | Town of Holderness | December 5, 2002; December 12, 2002; The Record Enterprise | Mr. Steve Huss, Chairman of the Town of Holderness, Board of Selectmen, Holderness Town Hall, P.O. Box 203, Holderness, New Hampshire 03245 | March 13, 2002 | 330059 C
New York: Erie (FEMA Docket No. D-7535) | Town of Hamburg | December 12, 2002; December 19, 2002; Hamburg Sun | Mr. Patrick H. Hoak, Hamburg Town Supervisor, 6100 South Park Avenue, Hamburg, New York 14075 | June 3, 2003 | 360244 D
North Carolina: Wake (FEMA Docket No. D-7537) | City of Raleigh | January 17, 2003; January 24, 2003; The News & Observer | The Honorable Charles Meeker, Mayor of the City of Raleigh, P.O. Box 590, 222 West Hargett Street, Raleigh, North Carolina | January 30, 2003 | 370243 E
Pennsylvania: York (FEMA Docket No. D-7535) | Township of Springettsbury | December 20, 2002; December 27, 2002; The York Dispatch | Mr. Robert J. Sabatini, Jr., Springettsbury Township Manager, 1501 Mt. Zion Road, York, Pennsylvania 17402 | March 28, 2003 | 421031 A
Pennsylvania: York (FEMA Docket No. D-7535) | Township of Spring Garden | December 20, 2002; December 27, 2002; The York Dispatch | Mr. Joseph F. Barrons, Spring Garden Township Manager, 558 Ogantz Street, York, Pennsylvania 17403 | March 28, 2003 | 420937 B
Virginia: Fauquier (FEMA Docket No. D-7533) | Unincorporated Areas | November 14, 2002; November 21, 2002; Fauquier Citizen | Mr. G. Robert Lee, Fauquier County Administrator, 40 Culpeper Street, Warrenton, Virginia 20186 | February 20, 2003 | 510055 A

(Catalog of Federal Domestic Assistance No. 83.100, “Flood Insurance.”)
Dated: June 18, 2003.
Anthony S. Lowe,
Mitigation Division Director, Emergency Preparedness and Response Directorate.

[FR Doc. 03-16290 Filed 6-26-03; 8:45 am]

BILLING CODE 6718-04-U